DEPARTMENT OF LABOR

Occupational Safety and Health Administration

29 CFR Part 1910

[Docket No. OSHA-2007-0040]

RIN 1218-AC08

Updating OSHA Standards Based on National Consensus Standards

AGENCY: Occupational Safety and Health Administration (OSHA); Department of Labor.

ACTION: Notice of proposed rulemaking.

SUMMARY: In this Notice of Proposed Rulemaking (NPRM), the Agency is proposing to remove several references to consensus standards that have requirements that duplicate or are comparable to other OSHA rules; this rulemaking also includes correcting a paragraph citation in one these OSHA rules. In addition, the Agency is proposing to remove the reference to American Welding Society standard A3.0-1969 (“Terms and Definitions”) in its general-industry welding standards. OSHA also is publishing a direct final rule in today's Federal Register taking these same actions. This NPRM is the companion document to the direct final rule. This rulemaking is a continuation of OSHA's ongoing effort to update references to consensus and industry standards used throughout its rules.

DATES: Comments to this NPRM (including comments to the information-collection (paperwork) determination described under the section titled SUPPLEMENTARY INFORMATION of companion direct final rule), hearing requests, and other information must be submitted by January 14, 2008. All submissions must bear a postmark or provide other evidence of the submission date. (See the following section titled ADDRESSES for methods you can use in making submissions.)

ADDRESSES: Comments and hearing requests may be submitted as follows:

• Electronic. Comments may be submitted electronically to http://www.regulations.gov, which is the Federal eRulemaking Portal. Follow the instructions online for submitting comments.

• Facsimile. OSHA allows facsimile transmission of comments and hearing requests that are 10 pages or fewer in length (including attachments). Send these documents to the OSHA Docket Office at (202) 693-1648; hard copies of these documents are not required. Instead of transmitting facsimile copies of attachments that supplement these documents (e.g., studies, journal articles), commenters must submit these attachments, in triplicate hard copy, to the OSHA Docket Office, Technical Data Center, Room N-2625, OSHA, U.S. Department of Labor, 200 Constitution Ave., NW., Washington, DC 20210. These attachments must clearly identify the sender's name, date, subject, and docket number (i.e., OSHA-2007-0040) so that the Agency can attach them to the appropriate document.

• Regular mail, express delivery, hand (courier) delivery, and messenger service. Submit three copies of comments and any additional material (e.g., studies, journal articles) to the OSHA Docket Office, Docket No. OSHA-2007-0040 or RIN No. 1218-AC08, Technical Data Center, Room N-2625, OSHA, U.S. Department of Labor, 200 Constitution Ave., NW., Washington, DC 20210; telephone: (202) 693-2350. (OSHA's TTY number is (877) 889-5627.) Note that security-related problems may result in significant delays in receiving comments and other written materials by regular mail. Please contact the OSHA Docket Office for information about security procedures concerning delivery of materials by express delivery, hand delivery, and messenger service. The hours of operation for the OSHA Docket Office are 8:15 a.m. to 4:45 p.m., e.t.

• Instructions. All submissions must include the Agency name and the OSHA docket number (i.e., OSHA Docket No. OSHA-2007-0040). Comments and other material, including any personal information, are placed in the public docket without revision, and will be available online at http://www.regulations.gov. Therefore, the Agency cautions commenters about submitting statements they do not want made available to the public, or submitting comments that contain personal information (either about themselves or others) such as social security numbers, birth dates, and medical data.

OSHA requests comments on all issues related to this NPRM. It also welcomes comments on its findings that there would be no negative economic, paperwork, or other regulatory impacts of this NPRM on the regulated community. This NPRM is the companion document to a direct final rule also published in today's Federal Register. If OSHA receives no significant adverse comment on the companion direct final rule, it will publish a Federal Register document confirming the effective date of the direct final rule and withdrawing this NPRM. Such confirmation may include minor stylistic or technical corrections to the document. For the purpose of judicial review, OSHA considers the date that it confirms the effective date of the direct final rule to be the date of issuance. However, if OSHA receives significant adverse comment on the direct final rule, it will publish a timely withdrawal of the direct final rule and proceed with this NPRM addressing the same standards.

• Docket. To read or download comments or other material in the docket, go to http://www.regulations.gov or to the OSHA Docket Office at the address above. Documents in the docket are listed in the http://www.regulations.gov index; however, some information (e.g., copyrighted material) is not publicly available to read or download through this Web site. All submissions, including copyrighted material, are available for inspection and copying at the OSHA Docket Office. Contact the OSHA Docket Office for assistance in locating docket submissions.

FOR FURTHER INFORMATION CONTACT: For general information and press inquiries contact Mr. Kevin Ropp, Director, OSHA Office of Communications, Room N-3647, U.S. Department of Labor, 200 Constitution Avenue, NW., Washington, DC 20210; telephone: (202) 693-1999. For technical inquiries, contact Ted Twardowski, Office of Safety Systems, Directorate of Standards and Guidance, Room N-3609, OSHA, U.S. Department of Labor, 200 Constitution Avenue, NW., Washington, DC 20210; telephone: (202) 693-2255; fax: (202) 693-1663. Copies of this Federal Register notice are available from the OSHA Office of Publications, Room N-3101, U.S. Department of Labor, 200 Constitution Avenue, NW., Washington, DC 20210; telephone (202) 693-1888. Electronic copies of this Federal Register notice, as well as news releases and other relevant documents, are available at OSHA's Web page at http://www.osha.gov.

SUPPLEMENTARY INFORMATION:

I. Discussion of the Proposal

OSHA is proposing to remove several references to outdated consensus standards in its general-industry rules that have requirements that duplicate or are comparable to other OSHA rules. In addition, the Agency is correcting a paragraph citation in one these OSHA rules. The Agency also proposes to remove the reference to American Welding Society standard A3.0-1969 (“Terms and Definitions”) in its general-industry welding standards. This NPRM is the companion document to a direct final rule concerning the same standards published in the “Rules” section of today's Federal Register. For a complete discussion of this action, the relevant consensus standards and OSHA standards affected by this NPRM, as well as a discussion of the economic analysis and Regulatory Flexibility Act certification, paperwork determination, issues involving federalism and State-Plan States, and OSHA's response under the Unfunded Mandates Reform Act, see the preamble to the direct final rule.

II. Public Participation

OSHA requests comments on all issues related to this NPRM. The Agency also welcomes comments on its findings that this rulemaking would have no negative economic or other regulatory impacts of this NPRM on the regulated community. If OSHA receives no significant adverse comment, it will publish a Federal Register document confirming the effective date contained in the companion direct final rule and withdrawing this NPRM. Such confirmation may include minor stylistic or technical corrections to the document. A full discussion of what constitutes a significant adverse comment is contained in the companion direct final rule.

The Agency will withdraw the direct final rule if it receives significant adverse comment on the amendments contained in the direct final rule, and proceed with this NPRM by addressing the comment and publishing a new final rule. Should the Agency receive a significant adverse comment regarding some actions taken in the direct final rule, but not others, it may (1) finalize those actions that did not receive significant adverse comment, and (2) conduct further rulemaking under this NPRM for the actions that received significant adverse comment. The comment period for this NPRM runs concurrently with that of the direct final rule. Therefore, any comments received under this NPRM will be treated as comments regarding the direct final rule. Likewise, significant adverse comments submitted to the direct final rule will be considered as comments to this NPRM; the Agency will consider such comments in developing a subsequent final rule.

Comments received will be posted without change to http://www.regulations.gov, including any personal information provided. Accordingly OSHA cautions commenters about submitting personal information such as social security numbers and birth dates.

List of Subjects for 29 CFR Part 1910

General industry, Health, Occupational safety and health, Safety, Welding.

Authority and Signature

Edwin G. Foulke, Jr., Assistant Secretary of Labor for Occupational Safety and Health, U.S. Department of Labor, 200 Constitution Avenue, NW., Washington, DC 20210, directed the preparation of this proposed rule. The Agency is issuing this rule under Sections 4, 6, and 8 of the Occupational Safety and Health Act of 1970 (29 U.S.C. 653, 655, 657), Secretary of Labor's Order 5-2007 (72 FR 31159), and 29 CFR Part 1911.

Signed at Washington, DC on Friday, December 7, 2007.
Edwin G. Foulke, Jr.,
Assistant Secretary of Labor.

III. Amendments to Standards

OSHA is proposing to amend 29 CFR part 1910 to read as follows:

PART 1910—[AMENDED]

Subpart A—[Amended]

1. Revise the authority citation for subpart A of part 1910 to read as follows:

Authority: Sections 4, 6, and 8 of the Occupational Safety and Health Act of 1970 (29 U.S.C. 653, 655, 657); Secretary of Labor's Order No. 12-71 (36 FR 8754), 8-76 (41 FR 25059), 9-83 (48 FR 35736), 1-90 (55 FR 9033), 6-96 (62 FR 111), 3-2000 (65 FR 50017), or 5-2007 (72 FR 31159), as applicable.

Section 1910.6 also issued under 5 U.S.C. 553. Sections 1910.6, 1910.7, and 1910.8 also issued under 29 CFR Part 1911. Section 1910.7(f) also issued under 31 U.S.C. 9701, 29 U.S.C. 9a, 5 U.S.C. 553; Pub. L. 106-113 (113 Stat. 1501A-222); and OMB Circular A-25 (dated July 8, 1993) (58 FR 38142, July 15, 1993).

2. In § 1910.6:

a. Remove and reserve paragraphs (e)(1), (e)(2), (e)(5), (e)(62), and (e)(63), and (i)(1); and

b. Revise paragraphs (e)(15), (e)(49), and (q)(3) to read as follows:

§ 1910.6 Incorporation by reference.

* * * * *

(e) * * *

(15) ANSI B7.1-70 Safety Code for the Use, Care and Protection of Abrasive Wheels, IBR approved for §§ 1910.215(b)(12) and 1910.218(j).

* * * * *

(49) ANSI Z9.1-51 Safety Code for Ventilation and Operation of Open Surface Tanks, IBR approved for 1910.261(a)(3)(xix), (g)(18)(v), and (h)(2)(i).

* * * * *

(q) * * *

(3) NFPA 33-1969 Standard for Spray Finishing Using Flammable and Combustible Material, IBR approved for § 1910.94(c)(2).

* * * * *

Subpart F—[Amended]

3-4. Revise the authority citation for subpart F of part 1910 to read as follows:

Authority: Sections 4, 6, and 8 of the Occupational Safety and Health Act of 1970 (29 U.S.C. 653, 655, 657); Secretary of Labor's Order No. 12-71 (36 FR 8754), 8-76 (41 FR 25059), 9-83 (48 FR 35736), 1-90 (55 FR 9033), or 5-2007 (72 FR 31159), as applicable; and 29 CFR part 1911.

5. Revise paragraphs (b)(4) and (b)(8)(ii) of § 1910.68 to read as follows:

§ 1910.68 Manlifts.

* * * * *

(b) * * *

(4) Reference to other codes and subparts. The following codes and subparts of this part are applicable to this section: Safety Code for Mechanical Power Transmission Apparatus, ANSI B15.1-1953 (R 1958); Safety Code for Fixed Ladders, ANSI A14.3-1956; and subparts D, O, and S. The preceding ANSI standards are incorporated by reference as specified in § 1910.6.

* * * * *

(8) * * *

(ii) Construction. The rails shall be standard guardrails with toeboards meeting the provisions of § 1910.23.

* * * * *

Subpart G—[Amended]

6. Revise the authority citation for subpart G of part 1910 to read as follows:

Authority: Sections 4, 6, and 8 of the Occupational Safety and Health Act of 1970 (29 U.S.C. 653, 655, 657); Secretary of Labor's Order No. 12-71 (36 FR 8754), 8-76 (41 FR 25059), 9-83 (48 FR 35736), 1-90 (55 FR 9033), 6-96 (62 FR 111), or 5-2007 (72 FR 31159), as applicable; and 29 CFR Part 1911.

Section 1910.94 also issued under 5 U.S.C. 553.

7. Revise paragraphs (b)(5)(1)(a), (c)(1)(ii), (c)(3)(i) introductory text, (c)(3)(i)(a), (c)(3)(iii) introductory text, (c)(3)(iii)(a), (c)(5)(i) introductory text, and (c)(5)(iii)(e) of § 1910.94 to read as follows:

§ 1910.94 Ventilation.

* * * * *

(b) * * *

(5) * * *

(i)(a) It is the dual function of grinding and abrasive cutting-off wheel hoods to protect the operator from the hazards of bursting wheels, as well as to provide a means for the removal of dust and dirt generated. All hoods shall be not less in structural strength than specified in Tables O-1 and O-9 of § 1910.215.

* * * * *

(c) * * *

(1) * * *

(ii) Spray booth. Spray booths are defined and described in § 1910.107(a).

* * * * *

(3) * * *

(i) Spray booths shall be designed and constructed in accordance with § 1910.107(b)(1) through (b)(4) and (b)(6) through (b)(10). For a more detailed discussion of fundamentals relating to this subject, see ANSI Z9.2-1960, which is incorporated by reference as specified in § 1910.6.

(a) Lights, motors, electrical equipment, and other sources of ignition shall conform to the requirements of § 1910.107(b)(10) and (c).

* * * * *

(iii) Baffles, distribution plates, and dry-type overspray collectors shall conform to the requirements of § 1910.107(b)(4) and (b)(5).

(a) Overspray filters shall be installed and maintained in accordance with the requirements of § 1910.107(b)(5), and shall only be in a location easily accessible for inspection, cleaning, or replacement.

* * * * *

(5) * * *

(i) Ventilation shall be provided in accordance with provisions of § 1910.107(d), and in accordance with the following:

* * * * *

(iii) * * *

(e) Inspection or clean-out doors shall be provided for every 9 to 12 feet of running length for ducts up to 12 inches in diameter, but the distance between cleanout doors may be greater for larger pipes. A clean-out door or doors shall be provided for servicing the fan, and where necessary, a drain shall be provided.

* * * * *

Subpart H—[Amended]

8. Revise the authority citation for subpart H of part 1910 to read as follows:

Authority: Sections 4, 6, and 8 of the Occupational Safety and Health Act of 1970 (29 U.S.C. 653, 655, 657); Secretary of Labor's Order No. 12-71 (36 FR 8754), 8-76 (41 FR 25059), 9-83 (48 FR 35736), 1-90 (55 FR 9033), 6-96 (62 FR 111), 3-2000 (65 FR 50017), or 5-2007 (72 FR 31159), as applicable; and 29 CFR part 1911.

Sections 1910.103, 1910.106 through 1910.111, and 1910.119, 1910.120, and 1910.122 through 1910.126 also issued under 29 CFR part 1911.

Section 1910.119 also issued under Section 304, Clean Air Act Amendments of 1990 (Pub. L. 101-549), reprinted at 29 U.S.C. 655 Note.

Section 1910.120 also issued under Section 126, Superfund Amendments and Reauthorization Act of 1986 as amended (29 U.S.C. 655 Note), and 5 U.S.C. 553.

9. Revise paragraph (b)(1)(i)(c) of § 1910.103 to read as follows:

§ 1910.103 Hydrogen.

* * * * *

(b) * * *

(1) * * *

(i) * * *

(c) Each portable container shall be legibly marked with the name “Hydrogen” in accordance with the marking requirements set forth in § 1910.253(b)(1)(ii). Each manifolded hydrogen supply unit shall be legibly marked with the name “Hydrogen” or a legend such as “This unit contains hydrogen.”

* * * * *

10. Revise paragraph (c)(1)(iv) of § 1910.107 to read as follows:

§ 1910.107 Spray finishing using flammable and combustible materials.

* * * * *

(c) * * *

(1) * * *

* * * * *

(vi) Powder-coating equipment shall conform to the requirements of paragraph (l)(1) of this section.

* * * * *

11. Amend paragraph (b)(5)(iii) of § 1910.110 to read as follows:

§ 1910.110 Storage and handling of liquid petroleum gases.

* * * * *

(b) * * *

(5) * * *

(iii) When LP-Gas and one or more other gases are stored or used in the same area, the containers shall be marked to identify their content. Marking shall conform to the marking requirements set forth in § 1910.253(b)(1)(ii).

* * * * *

12. Revise paragraph (e)(1) of § 1910.111 to read as follows:

§ 1910.111 Storage and handling of anhydrous ammonia.

* * * * *

(e) * * *

(1) Conformance. Cylinders shall comply with DOT specifications and shall be maintained, filled, packaged, marked, labeled, and shipped to comply with 49 CFR chapter I and the marking requirements set forth in § 1910.253(b)(1)(ii).

* * * * *

Subpart J—[Amended]

13. Revise the authority citation for subpart J of part 1910 to read as follows:

Authority: Sections 4, 6, and 8 of the Occupational Safety and Health Act of 1970 (29 U.S.C. 653, 655, 657); Secretary of Labor's Order No. 12-71 (36 FR 8754), 8-76 (41 FR 25059), 9-83 (48 FR 35736), 1-90 (55 FR 9033), 6-96 (62 FR 111), 3-2000 (65 FR 50017), or 5-2007 (72 FR 31159), as applicable.

Sections 1910.141, 1910.142, 1910.145, 1910.146, and 1910.147 also issued under 29 CFR part 1911.

14. Revise paragraph (a)(1)(ii) of § 1910.144 to read as follows:

§ 1910.144 Safety color code for marking physical hazards.

(a) * * *

(1) * * *

(ii) Danger. Safety cans or other portable containers of flammable liquids having a flash point at or below 80° F, table containers of flammable liquids (open cup tester), excluding shipping containers, shall be painted red with some additional clearly visible identification either in the form of a yellow band around the can or the name of the contents conspicuously stenciled or painted on the can in yellow. Red lights shall be provided at barricades and at temporary obstructions. Danger signs shall be painted red.

* * * * *

Subpart P—[Amended]

15. Revise the authority citation for subpart P of part 1910 to read as follows:

Authority: Sections 4, 6, and 8 of the Occupational Safety and Health Act of 1970 (29 U.S.C. 653, 655, 657); Secretary of Labor's Order No. 12-71 (36 FR 8754), 8-76 (41 FR 25059), 9-83 (48 FR 35736), 1-90 (55 FR 9033), or 5-2007 (72 FR 31159), as applicable; 29 CFR part 1911.

Section 1910.243 also issued under 29 CFR part 1910.

16. Revise paragraph (d)(1)(i) of § 1910.243 to read as follows:

§ 1910.243 Guarding of portable powered tools.

* * * * *

(d) * * *

(1) * * *

(i) Explosive-actuated fastening tools that are actuated by explosives or any similar means, and propel a stud, pin, fastener, or other object for the purpose of affixing it by penetration to any other object shall meet the design requirements specified by paragraph (d)(2) of this section. This requirement does not apply to devices designed for attaching objects to soft construction materials, such as wood, plaster, tar, dry wallboard, and the like, or to stud-welding equipment.

* * * * *

Subpart Q—[Amended]

17. Revise the authority citation for subpart Q of part 1910 to read as follows:

Authority: Sections 4, 6, and 8 of the Occupational Safety and Health Act of 1970 (29 U.S.C. 653, 655, and 657); Secretary of Labor's Orders Nos. 12-71 (36 FR 8754), 8-76 (41 FR 25059), 9-83 (48 FR 35736), 1-90 (55 FR 9033), 6-96 (62 FR 111), 3-2000 (65 FR 50017), or 5-2007 (72 FR 31159), as applicable; and 29 CFR part 1911.

§ 1910.251 [Amended]

18. Remove paragraph (c) of § 1910.251.

19. Revise paragraph (b)(1)(ii) of § 1910.253 to read as follows:

§ 1910.253 Oxygen-fuel gas welding and cutting.

* * * * *

(b) * * *

(1) * * *

(ii) Compressed gas cylinders shall be legibly marked, for the purpose of identifying the gas content, with either the chemical or the trade name of the gas. Such marking shall be by means of stenciling, stamping, or labeling, and shall not be readily removable. Whenever practical, the marking shall be located on the shoulder of the cylinder.

* * * * *

Subpart R—[Amended]

20. Revise the authority citation for subpart R of part 1910 to read as follows:

Authority: Sections 4, 6, and 8 of the Occupational Safety and Health Act of 1970 (29 U.S.C. 653, 655, 657); Secretary of Labor's Order No. 12-71 (36 FR 8754), 8-76 (41 FR 25059), 9-83 (48 FR 35736), 1-90 (55 FR 9033), 6-96 (62 FR 111), or 5-2007 (72 FR 31159), as applicable; and 29 CFR part 1911.

21. Revise paragraphs (c)(15)(ii), (e)(4), (g)(13)(i), (h)(1), (j)(4)(iii), (j)(5)(i), (k)(6), (k)(13)(i), and (k)(15) of § 1910.261 to read as follows:

§ 1910.261 Pulp, paper, and paperboard mills.

* * * * *

(c) * * *

(15) * * *

(ii) Where conveyors cross passageways or roadways, a horizontal platform shall be provided under the conveyor extending out from the sides of the conveyor a distance equal to 1.5 times the length of the wood handled. The platform shall extend the width of the road plus 2 feet on each side, and shall be kept free of wood and rubbish. The edges of the platform shall be provided with toeboards or other protection to prevent wood from falling, in accordance with § 1910.23.

* * * * *

(e) * * *

(4) Runway to the jack ladder. The runway from the pond or unloading dock to the table shall be protected with standard handrails and toeboards. Inclined portions shall have cleats or equivalent nonslip surfacing in accordance with § 1910.23. Protective equipment shall be provided for persons working over water.

* * * * *

(g) * * *

(13) * * *

(i) Blowpit openings shall be preferably on the side of the pit instead of on top. When located on top, openings shall be as small as possible and shall be provided with railings in accordance with § 1910.23.

* * * * *

(h) * * *

(1) Bleaching engines. Bleaching engines, except the Bellmer type, shall be completely covered on the top, with the exception of one small opening large enough to allow filling, but too small to admit a person. Platforms leading from one engine to another shall have standard guardrails in accordance with § 1910.23.

* * * * *

(j) * * *

(4) * * *

(iii) When beaters are fed from a floor above, the chute opening, if less than 42 inches from the floor, shall be provided with a complete rail or other enclosure. Openings for manual feeding shall be sufficient only for entry of stock, and shall be provided with at least two permanently secured crossrails in accordance with § 1910.23.

* * * * *

(5) * * *

(i) All pulpers having the top or any other opening of a vessel less than 42 inches from the floor or work platform shall have such openings guarded by railed or other enclosures. For manual charging, openings shall be sufficient to permit the entry of stock, and shall be provided with at least two permanently secured crossrails in accordance with § 1910.23.

* * * * *

(k) * * *

(6) Steps. Steps of uniform rise and tread with nonslip surfaces shall be provided at each press in accordance with § 1910.23.

* * * * *

(13) * * *

(i) A guardrail shall be provided at broke holes in accordance with § 1910.23.

* * * * *

(15) Steps. Steps or ladders of uniform rise and tread with nonslip surfaces shall be provided at each calendar stack. Handrails and hand grips shall be provided at each calendar stack in accordance with § 1910.23.

* * * * *

[FR Doc. E7-24182 Filed 12-13-07; 8:45 am]

BILLING CODE 4510-26-P